DEPARTMENT OF ENERGY

Federal Energy Regulatory Commission

[Docket No. RP04-62-001]

CenterPoint Energy-Mississippi River Transmission Corporation; Notice of Tariff Filing

April 20, 2004.

Take notice that on April 14, 2004, CenterPoint Energy-Mississippi River Transmission Corporation (MRT) tendered for filing as part of its FERC Gas Tariff, Third Revised Volume No. 1, the following revised tariff sheet to be effective on June 1, 2004:

Fifth Revised Sheet No. 252

MRT states that the purpose of this filing is to modify MRT's tariff to include Web site notifications, in addition to notification by mail of the Annual Penalty Revenue Credits as directed in the Commission's Order, dated March 26, 2004.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-922 Filed 4-26-04; 8:45 am]

BILLING CODE 6717-01-P